SMALL BUSINESS ADMINISTRATION

[Disaster Declaration # 10625]

Virginia Disaster # VA-00008

AGENCY: Small Business Administration.

ACTION: Notice.

SUMMARY: This is a Notice of the Presidential declaration of a major disaster for Public Assistance Only for the Commonwealth of Virginia (FEMA-1661-DR), dated 09/22/2006.

Incident: Severe Storms and Flooding, Including Severe Storms and Flooding Associated with Tropical Depression Ernesto.

Incident Period: 08/29/2006 Through 09/07/2006.

Effective Date: 09/22/2006.

Physical Loan Application Deadline Date: 11/21/2006.

ADDRESSES: Submit Completed Loan Applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 09/22/2006, Private Non-Profit organizations that provide essential services of a governmental nature may file disaster loan applications at the address listed above or other locally announced locations.

The following areas have been determined to be adversely affected by the disaster:

Primary Counties:

Accomack, Caroline, Charles City, Dinwiddie, Essex, Gloucester, Isle of Wight, James City, King William, Lancaster, Mathews, Middlesex, Northampton, Northumberland, Poquoson (City), Richmond, Richmond (City), Surry, Sussex, Westmoreland, York.

The Interest Rates are:

| Percent
Other (Including Non-Profit Organizations) With Credit Available Elsewhere | 5.000
Businesses And Non-Profit Organizations Without Credit Available Elsewhere | 4.000

The number assigned to this disaster for physical damage is 10625.

(Catalog of Federal Domestic Assistance Number 59008)

Allan I. Hoberman,
Acting Associate Administrator for Disaster Assistance.

[FR Doc. E6-16413 Filed 10-4-06; 8:45 am]

BILLING CODE 8025-01-P